DEPARTMENT OF TRANSPORTATION

Federal Aviation Administration

14 CFR Part 39

[Docket No. FAA-2020-0696; Product Identifier 2018-SW-019-AD]

RIN 2120-AA64

Airworthiness Directives; Airbus Helicopters Deutschland GmbH (Type Certificate Previously Held by Eurocopter Deutschland GmbH and Eurocopter Canada Ltd.) Helicopters

AGENCY: Federal Aviation Administration (FAA), DOT.

ACTION: Notice of proposed rulemaking (NPRM).

SUMMARY: The FAA proposes to supersede Airworthiness Directive (AD) 97-26-02 for Eurocopter Deutschland GmbH Model BO-105A, BO-105C, BO-105S, BO-105LS A-1, and BO-105LS A-3 helicopters; and Eurocopter Canada Ltd. Model BO-105LS A-3 helicopters. AD 97-26-02 requires a repetitive visual inspection for cracks in the ribbed area of the main rotor (M/R) mast flange (flange), and depending on the outcome, replacing the M/R mast. Since the FAA issued AD 97-26-02, it has been determined that a certain reinforced M/R mast is not affected by this unsafe condition. This proposed AD would retain the requirements of AD 97-26-02 and remove the reinforced M/R mast from the applicability. The actions of this proposed AD are intended to address an unsafe condition on these products.

DATES: The FAA must receive comments on this proposed AD by August 31, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0696; or in person at Docket Operations between 9 a.m. and 5 p.m., Monday through Friday, except Federal holidays. The AD docket contains this proposed AD, the European Aviation Safety Agency (now European Union Aviation Safety Agency) (EASA) AD, the Transport Canada AD, any comments received, and other information. The street address for Docket Operations is listed above. Comments will be available in the AD docket shortly after receipt.

For service information identified in this proposed rule, contact Airbus Helicopters, 2701 N Forum Drive, Grand Prairie, TX 75052; telephone 972-641-0000 or 800-232-0323; fax 972-641-3775; or at https://www.airbus.com/helicopters/services/technical-support.html. You may view this referenced service information at the FAA, Office of the Regional Counsel, Southwest Region, 10101 Hillwood Pkwy, Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone 817-222-5110; email Matthew.fuller@faa.gov.

SUPPLEMENTARY INFORMATION:

Comments Invited

The FAA invites you to participate in this rulemaking by submitting written comments, data, or views. The most helpful comments reference a specific portion of the proposal, explain the reason for any recommended change, and include supporting data. To ensure the docket does not contain duplicate comments, commenters should send only one copy of written comments, or if comments are filed electronically, commenters should submit only one time.

Except for Confidential Business Information (CBI) as described in the following paragraph, and other information as described in 14 CFR 11.35, the FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matt Fuller, Senior Aviation Safety Engineer, Safety Management Section, Rotorcraft Standards Branch, FAA, 10101 Hillwood Pkwy., Fort Worth, TX 76177; telephone 817-222-5110; email Matthew.fuller@faa.gov. Any commentary that the FAA receives which is not specifically designated as CBI will be placed in the public docket for this rulemaking.

Discussion

The FAA issued AD 97-26-02, Amendment 39-10245 (62 FR 65749, December 16, 1997) (“AD 97-26-02”) for Eurocopter Deutschland GmbH Model BO-105A, BO-105C, BO-105LS A-1, and BO-105LS A-3 helicopters and Eurocopter Canada Ltd. Model BO-105LS A-3 helicopters. AD 97-26-02 requires a repetitive visual inspection for cracks in the ribbed area of the M/R flange and replacing the M/R mast if there is a crack. AD 97-26-02 was prompted by Luftfahrt-Bundesamt (LBA) AD 97-275, effective September 25, 1997, issued by LBA, which is the airworthiness authority for Germany, to correct an unsafe condition for Eurocopter Deutschland GmbH Model BO 105 helicopters; and Transport Canada AD No. CF-97-18, dated September 30, 1997 (Transport Canada AD CF-97-18), issued by Transport Canada, which is the aviation authority for Canada, to correct an unsafe condition for Eurocopter Canada Ltd. Model BO 105LS A-3 helicopters. The LBA and Transport Canada ADs required an immediate and repetitive visual inspection for a crack in the flange area after an M/R mast was found to have cracks of critical magnitude. The actions of AD 97-26-02 are intended to detect cracks in the flange, which could result in failure of the flange and subsequent loss of control of the helicopter.

Actions Since AD 97-26-02 Was Issued

Since the FAA issued AD 97-26-02, EASA, which is the Technical Agent for the Member States of the European Union, issued EASA AD No. 2018-0056, dated March 14, 2018, to correct an unsafe condition for Airbus Helicopters Deutschland GmbH (previously Eurocopter Deutschland GmbH, Eurocopter Hubschrauber GmbH, Messerschmitt-Bölkow-Blohm GmbH, Eurocopter Canada Ltd, Messerschmitt-Bölkow-Blohm Helicopter Canada Ltd.) Model BO105 A, BO105 C, BO105 D, BO105 LS A-1, BO105 LS A-3 and BO105 S helicopters. The EASA AD advises of the transfer of type certificate responsibility of Eurocopter Canada Ltd. Model BO-105LS A-3 helicopters to Eurocopter Deutschland GmbH and the determination that reinforced M/R mast part number (P/N) 4639 305 095 of M/R mast assembly P/N 4639 205 017, is not affected by this unsafe condition. The EASA AD retains the repetitive visual inspection requirements but only for helicopters with M/R mast P/N 4619 305 032 of M/R mast assembly P/N 4638 205 005, and M/R mast P/N 4639 305 002 of M/R mast assembly P/N 4639 205 017. With the transfer of type certificate responsibility of Eurocopter Canada Ltd. Model BO-105LS A-3 helicopters, Transport Canada issued Transport Canada AD No. CF-1997-18R1, dated March 12, 2018, to cancel Transport Canada AD CF-97-18.

Also, since the FAA issued AD 97-26-02, Eurocopter Deutschland GmbH changed its name to Airbus Helicopters Deutschland GmbH. This proposed AD reflects that change and updates the contact information to obtain service documentation.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other products of the same type designs.

Related Service Information Under 1 CFR Part 51

The FAA reviewed Eurocopter Deutschland GmbH Alert Service Bulletin No. ASB-BO 105-10-110, dated August 27, 1997. This service information specifies procedures for repetitive visual inspections of the flange for cracks.

This service information is reasonably available because the interested parties have access to it through their normal course of business or by the means identified in the ADDRESSES section.

Proposed AD Requirements

This proposed AD would require, before further flight and thereafter at intervals not to exceed 100 hours time-in-service, visually inspecting the flange in the ribbed area for a crack using a 5-power or higher magnifying glass. If a crack exists, this proposed AD would require removing from service the M/R mast and replacing it with an airworthy M/R mast.

Differences Between This Proposed AD and the EASA AD

The EASA AD specifies contacting Airbus Helicopters if there is a crack in the flange, whereas this proposed AD would require replacing the M/R mast instead. Also, the EASA AD applies to Model BO105 D and BO105 S helicopters; the proposed AD does not as these model helicopters are not type-certificated in the U.S.

Costs of Compliance

The FAA estimates that this proposed AD would affect 21 helicopters of U.S. Registry. The FAA estimates that operators may incur the following costs in order to comply with this proposed AD. Labor costs are estimated at $85 per work-hour.

Inspecting the flange would take about 0.25 work-hour for an estimated cost of $21 per helicopter and $441 for the U.S. fleet per inspection cycle.

Replacing the M/R mast would take about 8 work-hours and parts would cost about $30,000 for an estimated cost of $30,680 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 97-26-02, Amendment 39-10245 (62 FR 65749, December 16, 1997); and

b. Adding the following new AD:

Airbus Helicopters Deutschland GmbH (Type Certificate Previously Held by Eurocopter Deutschland GmbH and Eurocopter Canada Ltd.): Docket No. FAA-2020-0696; Product Identifier 2018-SW-019-AD.

(a) Applicability

This AD applies to Airbus Helicopters Deutschland GmbH Model BO-105A, BO-105C, BO-105S, BO-105LS A-1, and BO-105LS A-3 helicopters, certificated in any category, with a main rotor (M/R) mast part number (P/N) 4619 305 032 of M/R mast assembly P/N 4638 205 005, or M/R mast P/N 4639 305 002 of M/R mast assembly P/N 4639 205 017.

Note 1 to paragraph (a) of this AD: M/R mast assembly P/N 4639 205 017 may also contain reinforced M/R mast P/N 4639 305 095, which is not affected by this AD.

(b) Unsafe Condition

This AD defines the unsafe condition as cracks in the M/R mast flange (flange). This condition could result in failure of the flange and subsequent loss of control of the helicopter.

(c) Affected ADs

This AD replaces AD 97-26-02, Amendment 39-10245 (62 FR 65749, December 16, 1997).

(d) Comments Due Date

The FAA must receive comments by August 31, 2020.

(e) Compliance

You are responsible for performing each action required by this AD within the specified compliance time unless it has already been accomplished prior to that time.

(f) Required Actions

(1) Before further flight and thereafter at intervals not to exceed 100 hours time-in-service, visually inspect the flange in the ribbed area for cracks using a 5-power or higher magnifying glass in accordance with paragraphs 2.A.1. and 2.A.2. of the Accomplishment Instructions in Eurocopter Deutschland GmbH Alert Service Bulletin No. ASB-BO 105-10-110, dated August 27, 1997.

(2) If there is a crack, remove from service the cracked M/R mast and replace it with an airworthy M/R mast.

(g) Alternative Methods of Compliance (AMOCs)

(1) The Manager, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

The subject of this AD is addressed in European Aviation Safety Agency (now European Union Aviation Safety Agency) (EASA) AD No. 2018-0056, dated March 14, 2018; and Transport Canada AD No. CF-1997-18R1, dated March 12, 2018. You may view the EASA and Transport Canada ADs on the internet at https://www.regulations.gov in the AD Docket.

(i) Subject

Joint Aircraft Service Component (JASC) Code: 6230, Main Rotor Mast/Swashplate.

Issued on July 13, 2020.
Lance T. Gant,
Director, Compliance & Airworthiness Division, Aircraft Certification Service.

[FR Doc. 2020-15352 Filed 7-16-20; 8:45 am]

BILLING CODE 4910-13-P